NUCLEAR REGULATORY COMMISSION

[Docket No. 70-1201]

Notice of Renewal of Material License SNM-1168 for Framatome Advanced Nuclear Power, Inc., Lynchburg, VA

AGENCY: Nuclear Regulatory Commission.

ACTION: Notice of renewal of license.

FOR FURTHER INFORMATION CONTACT: Julie Olivier, Fuel Cycle Facilities Branch, Division of Fuel Cycle Safety and Safeguards, U.S. Nuclear Regulatory Commission, Mail Stop T8-A33, Washington, DC 20555-0001, telephone (301) 415-8098 and email jao@nrc.gov.

SUPPLEMENTARY INFORMATION:

I. Introduction

By letter dated March 28, 2002 (ADAMS ML020940468), Framatome Advanced Nuclear Power (FANP) requested the renewal of license SNM-1168. A Federal Register Notice was published on August 9, 2002, notifying the public that the U.S. Nuclear Regulatory Commission (NRC) or the Commission was reviewing the renewal application for SNM-1168 and offering a 30-day notice of opportunity to request a hearing, in accordance with 10 CFR part 2. No requests for a hearing were received.

The environmental impacts of continued operation were reported in the Environmental Assessment (EA) for Renewal of License SNM-1168 (ADAMS ML030940720). On the basis of the assessment, a Finding of No Significant Impact (FONSI) was published in the Federal Register on May 7, 2003, (68 FR 24521).

Therefore, the Commission has renewed, for a period of ten years, Special Nuclear Material License SNM-1168 (ADAMS ML033490064), held by FANP to authorize: (1) Fabrication of fuel assemblies for commercial nuclear reactors, (2) support activities for nuclear reactor field service operations, and (3) general manufacturing at the Lynchburg, Virginia facility. This renewal was issued on December 12, 2003, and is effective immediately.

II. Further Information

In accordance with 10 CFR 2.790 of the NRC's “Rules of Practice,” the documents related to this proposed action including the EA and FONSI are available electronically for public inspection from the Publicly Available Records (PARS) component of NRC's document system (ADAMS). ADAMS is accessible from the NRC Web site at http://www.nrc.gov/reading-rm/adams.html. These documents may also be examined and/or copied for a fee at the NRC Public Document Room (PDR) located at 01 F21, One White Flint North, 11555 Rockville Pike, Rockville, MD 20852. The PDR reproduction contractor will copy documents for a fee.

Dated at Rockville, Maryland, this 2nd day of January, 2004.
For the Nuclear Regulatory Commission.
Julie Olivier,
Project Manager, Fuel Cycle Facilities Branch, Division of Fuel Cycle Safety and Safeguards, Office of Nuclear Material Safety and Safeguards.

[FR Doc. 04-362 Filed 1-7-04; 8:45 am]

BILLING CODE 7590-01-P